DEPARTMENT OF TRANSPORTATION

Federal Railroad Administration

[Docket Number FRA-2015-0092]

Petition for Waiver of Compliance

In accordance with part 211 of Title 49 of the Code of Federal Regulations (CFR), this document provides the public notice that by a document dated July 30, 2015, the American Short Line and Regional Railroad Association (ASLRRA) has petitioned the Federal Railroad Administration (FRA) for an amendment to its existing waiver of compliance in Docket Number FRA-2009-0078. Specifically, this waiver exempts certain ASLRRA member railroads from provisions of the Federal hours of service laws and regulations contained at 49 CFR 228.405(a)(3). In its petition, ASLRRA seeks to amend the waiver to include the hours of midnight to 6 a.m. for certain railroads that will participate in a pilot project to measure the effectiveness of certain measures implemented to mitigate any adverse fatigue effects that might otherwise occur if the waiver were expanded to include those hours. These railroads all currently participate in the existing waiver in Docket Number FRA-2009-0078. The pilot project will employ a mandatory napping program for employees operating under the waiver between the hours of midnight and 6 a.m. Followup data (e.g., sleep logs/diaries, self-report questionnaires, and interview responses) will be collected from participants who undertake the napping regimen and report the results. The sample size, if a paired comparison or repeated measures analysis is used, will provide sufficient statistical power to analyze the data and make appropriate generalizations to the industry as a whole. If the data supports it, ASLRRA will then seek to expand the waiver for all participating railroads to include the hours of midnight to 6 a.m. when approved mitigation measures are employed. Forty ASLRRA member railroads are proposed to be included in this pilot program. A complete list of the railroads that would like to participate may be found in ASLRRA's July 30, 2015, petition letter in Docket Number FRA-2015-0092.

A copy of the petition, as well as any written communications concerning the petition, is available for review online at www.regulations.gov and in person at the U.S. Department of Transportation's (DOT) Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by November 16, 2015 will be considered by FRA before final action is taken. Comments received after that date will be considered as far as practicable.

Anyone is able to search the electronic form of any written communications and comments received into any of our dockets by the name of the individual submitting the comment (or signing the document, if submitted on behalf of an association, business, labor union, etc.). In accordance with 5 U.S.C. 553(c), DOT solicits comments from the public to better inform its processes. DOT posts these comments, without edit, including any personal information the commenter provides, to www.regulations.gov, as described in the system of records notice (DOT/ALL-14 FDMS), which can be reviewed at www.dot.gov/privacy. See also http://www.regulations.gov/#!privacyNotice for the privacy notice of regulations.gov.

Issued in Washington, DC, on September 24, 2015.
Ron Hynes,
Director, Office of Technical Oversight.

[FR Doc. 2015-24698 Filed 9-29-15; 8:45 am]

BILLING CODE 4910-06-P